DEPARTMENT OF HEALTH AND HUMAN SERVICES

Administration for Children and Families

Proposed Information Collection Activity; Comment Request

Proposed Projects

Title: Summary Data Component, National Child Abuse and Neglect Data System (NCANDS).

OMB No.: 0980-0229.

Description: The Child Abuse and Neglect Treatment Act (42 U.S.C. 5101 et seq.) as amended requires States to annually work with the Secretary to provide to the maximum extent practical, a report that includes 12 data items listed in the statute. The National Child Abuse and Neglect Data System (NCANDS), administered by the Children's Bureau, meets this reporting requirement. In addition, the amendments of 1988 require that the data system shall be universal and case specific and integrated with other case-based foster care and adoption data collected by the Secretary. There are two data components, the Detailed Case Data Component (DCDC), which includes the case-level data submitted through the Child File and some aggregated data submitted through the Agency File, and the Summary Data component (SC), which is used by States that cannot submit case-level data. No changes are being requested. The Summary Data Component will be phased out over the next few years as the number of States that can complete the Child File increases.

Respondents: State Child Welfare Agencies.

Annual Burden Estimates
Instrument | Number of respondents | Number of responses per respondent | Average burden hours per response | Total burden hours
DCDC (includes the Child File and the Agency File) | 49 | 1 | 108.60 | 5,321.40
Summary Data Component | 3 | 1 | 32 | 96

Estimated Total Annual Burden Hours: 5,417.40.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 28, 2009.
Janean Chambers,
Reports Clearance Officer.

[FR Doc. E9-10021 Filed 4-30-09; 8:45 am]

BILLING CODE 4184-01-P